DEPARTMENT OF COMMERCE

International Trade Administration

[Case Numbers: A-822-805, A-821-818, A-823-814]

Postponement of the Final Determinations in the Less-Than-Fair-Value Investigations of Urea Ammonium Nitrate Solutions From Belarus, the Russian Federation, and Ukraine

AGENCY: Import Administration, International Trade Administration, Department of Commerce.

EFFECTIVE DATE: November 7, 2002.

FOR FURTHER INFORMATION CONTACT: Thomas Martin at (202) 482-3936, Paige Rivas at (202) 482-0651 or Crystal Crittenden at (202) 482-0989, AD/CVD Enforcement, Office 4, Group II, Import Administration, International Trade Administration, U.S. Department of Commerce, 14th Street and Constitution Ave, NW., Washington, DC 20230.

SUMMARY: The Department of Commerce is postponing the final determinations in the less-than-fair-value investigations of urea ammonium nitrate solution (UANS) from Belarus, the Russian Federation, and Ukraine. The Department will make its final determinations not later than February 18, 2003.

SUPPLEMENTARY INFORMATION:

The Applicable Statute

Unless otherwise indicated, all citations to the Tariff Act of 1930, as amended (the Act), are references to the provisions effective January 1, 1995, the effective date of the amendments made to the Act by the Uruguay Round Agreements Act. In addition, unless otherwise indicated, all citations to the Department's regulations are to the regulations codified at 19 CFR part 351 (2000).

Background

On October 3, 2002, the Department of Commerce (the Department) published notices of preliminary determination of sales at less than fair value for UANS from Belarus, the Russian Federation and Ukraine. See Notice of Preliminary Determination of Sales at Less Than Fair Value: Urea Ammonium Nitrate Solutions From Belarus, 67 FR 62015 (October 3, 2002); Notice of Preliminary Determination of Sales at Less Than Fair Value: Urea Ammonium Nitrate Solutions From the Russian Federation, 67 FR 62008 (October 3, 2002); Notice of Preliminary Determination of Sales at Less Than Fair Value: Urea Ammonium Nitrate Solutions From Ukraine, 67 FR 62013 (October 3, 2002). The final determinations for these investigations are currently due no later than December 10, 2002. Pursuant to section 735(a)(2) of the Act, on October 15, 2002, Grodno Production Republican Enterprise of Belarus (Grodno) and JSC Nevinnomysskij Azot of the Russian Federation (Nevinka) requested that the Department postpone its final determinations in these investigations until 135 days after the date of the publication of the preliminary determination in the Federal Register. On October 31, 2002, the Trade and Economic Mission of Ukraine on behalf of the government of Ukraine submitted its request for the Department to postpone a final determination in the investigation of UANS from Ukraine pursuant to section 735(a)(2) of the Act. Additionally, Grodno, Nevinka, and the Ukrainian government requested that the Department extend the application of the provisional measures prescribed under 19 CFR 351.210(e)(2) to not more than six months.

Postponement of Final Determination and Extension of Provisional Measures

In accordance with 19 CFR 351.210(b), because (1) our preliminary determinations are affirmative, (2) the requesting exporters account for a significant proportion of exports of the subject merchandise from their respective countries, and (3) no compelling reasons for denial exist, we are granting Grodno's, Nevinka's, and the Ukrainian government's requests and are fully extending the time for the final determinations, until no later than February 18, 2003. Where applicable, suspension of liquidation will be extended accordingly.

This notice is issued and published pursuant to Section 735(a)(2) of the Act and 19 CFR 351.210(g).

Dated: November 1, 2002.
Faryar Shirzad,
Assistant Secretary for Import Administration.

[FR Doc. 02-28341 Filed 11-6-02; 8:45 am]

BILLING CODE 3510-DS-P